DEPARTMENT OF COMMERCE

Foreign-Trade Zones Board

[B-12-2025]

Foreign-Trade Zone (FTZ) 87; Authorization of Production Activity; Phillips 66 Company; (Renewable Fuels); Lake Charles, Louisiana

On February 27, 2025, Phillips 66 Company submitted a notification of proposed production activity to the FTZ Board for its facility within Subzone 87A in Lake Charles, Louisiana.

The notification was processed in accordance with the regulations of the FTZ Board (15 CFR part 400), including notice in the Federal Register inviting public comment (90 FR 11397, March 6, 2025). On November 13, 2025, the applicant was notified of the FTZ Board's decision that no further review of the activity is warranted at this time. The production activity described in the notification was authorized, subject to the FTZ Act and the FTZ Board's regulations, including section 400.14.

Dated: November 24, 2025.
Elizabeth Whiteman,
Executive Secretary.

[FR Doc. 2025-21241 Filed 11-25-25; 8:45 am]

BILLING CODE 3510-DS-P